DEPARTMENT OF THE INTERIOR

Bureau of Land Management

[AZ-070-02-1430-ES; AZA 31566]

Arizona: Notice of Realty Action; Lease and Conveyance of Public Lands in Mohave County, Lake Havasu City, AZ

AGENCY: Bureau of Land Management, Interior.

ACTION: Classification of public land for recreation and public purposes lease and conveyance.

SUMMARY: The following described public land in Mohave County, Arizona, has been examined and found suitable for classification in accordance with section 7 of the Taylor Grazing Act, 43 U.S.C. 315f, and Executive Order No. 6910, as suitable for lease and disposal under the provisions of the Recreation and Public Purposes (R&PP) Act, as amended (43 U.S.C. 869 et seq.):

Gila and Salt River Meridian, Arizona

T. 13 N., R. 19 W.,

sec. 20, NW¼SE¼,

Containing 40 acres, more or less.

SUPPLEMENTARY INFORMATION: Lake Havasu City (LHC) has filed an R&PP application requesting the described land to be made available to meet recreational and public purposes of the community. The LHC proposes to use the land for development of sports fields for public soccer, football, playground, picnic areas, dog park, a trail, and for other related recreational events. Lease and conveyance of the land for recreational and public purposes would be in the public interest and is consistent with the Yuma Resource Management Plan, 1985, which identifies the land as potentially suitable for disposal. The land is not required for any Federal purposes.

Lease and conveyance (patent) when issued will contain the following reservations to the United States:

1. A right-of-way thereon for ditches or canals constructed by the authority of the United States, Act of August 30, 1890 (43 U.S.C. 945).

2. All minerals, together with the right to prospect for, mine and remove such deposits from the same under applicable law and regulations to be established by the Secretary of the Interior.

And will be subject to:

1. The provisions of the R&PP Act and all applicable regulations of the Secretary of the Interior.

Segregation

Upon publication of this Notice in the Federal Register, the land will be segregated from all forms of appropriation under the public land laws, including the general mining laws, except for lease and conveyance under the R&PP Act, leasing under the mineral leasing laws, and mineral material disposal laws.

Classification Comments

Interested parties may submit comments involving the suitability of the land for sports fields for public soccer, football, playground, picnic areas, dog park, and trail. Comments on the classification are restricted to whether the land is physically suited for the proposal, whether the use will maximize the future use or uses of the land, whether the use is consistent with the local planning and zoning, or if the use is consistent with State and Federal programs.

Application Comments

Interested parties may submit comments regarding the specific use proposed in the application and plan of development, whether the Bureau of Land Management followed proper administrative procedures in reaching the decision, or any other factor not directly related to the suitability of the land for sports fields for public soccer, football, playground, picnic areas, dog park, and trail.

DATES: For a period of 45 days from the date of publication of this Notice in the Federal Register, interested parties may submit comments to the Field Manager, Lake Havasu Field Office, 2610 Sweetwater Avenue, Lake Havasu City, Arizona 86406. Any adverse comments will be reviewed by the Arizona State Director. In the absence of any adverse comments, the classification of the land described in this Notice will become effective 60 days from the date of publication of this Notice in the Federal Register. The land will not be offered for lease and conveyance until after the classification becomes effective.

Comments, including names and street addresses of respondents, will be available for public review at the address below during regular business hours (8 a.m. to 4:30 p.m.), Monday through Friday, except holidays. Individual respondents may request confidentiality. If you wish to withhold your address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Realty Specialist Maria Rosalez, Bureau of Land Management, Lake Havasu Field Office, 2610 Sweetwater Avenue, Lake Havasu City, Arizona 86406 or telephone (928) 505-1227.

Dated: June 27, 2002.
Donald Ellsworth,
Field Manager.

[FR Doc. 02-21394 Filed 8-21-02; 8:45 am]

BILLING CODE 4310-HC-P